ENVIRONMENTAL PROTECTION AGENCY

[FRL-7935-7]

Clean Water Act Section 303(d): Final Agency Action on Four Total Maximum Daily Loads (TMDLs)

AGENCY: Environmental Protection Agency (EPA).

ACTION: Notice of availability.

SUMMARY: This notice announces final agency action on four TMDLs prepared by EPA Region 6 for waters listed in Louisiana's Barataria river basin, under section 303(d) of the Clean Water Act (CWA). Documents from the administrative record file for the four TMDLs, including TMDL calculations and responses to comments, may be viewed at http://www.epa.gov/region6/water/tmdl.htm. The administrative record file may be examined by calling or writing Ms. Diane Smith at the following address. Please contact Ms. Smith to schedule an inspection.

FOR FURTHER INFORMATION CONTACT: Diane Smith, Environmental Protection Specialist, Water Quality Protection Division, U.S. EPA Region 6, 1445 Ross Avenue, Dallas, TX 75202-2733, (214) 665-2145.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner.

EPA Takes Final Agency Action on Four TMDLs

By this notice EPA is taking final agency action on the following four TMDLs for waters located within the Barataria river basin:

Subsegment | Waterbody name | Pollutant
020201 | Bayou Des Allemands—Lac Des Allemands to Hwy. U.S. 90 (scenic) | Dissolved Oxygen.
020201 | Bayou Des Allemands—Lac Des Allemands to Hwy. U.S. 90 (scenic) | Nutrients.
020303 | Lake Cataouatche and Tributaries | Dissolved Oxygen.
020303 | Lake Cataouatche and Tributaries | Nutrients.

EPA requested the public to provide EPA with any significant data or information that might impact the four TMDLs in the Federal Register Notice: 69 FR 69924 (December 1, 2004). The comments received and the EPA's response to comments may be found at http://www.epa.gov/region6/water/tmdl.htm.

Dated: June 28, 2005.
William K. Honker,
Acting Director, Water Quality Protection Division, Region 6.

[FR Doc. 05-13489 Filed 7-7-05; 8:45 am]

BILLING CODE 6560-50-P